DEPARTMENT OF HOMELAND SECURITY

Federal Emergency Management Agency

[Docket ID FEMA-2018-0002; Internal Agency Docket No. FEMA-B-1833]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
California:
San Diego | City of San Diego (17-09-1780P) | The Honorable Kevin L. Faulconer, Mayor, City of San Diego, 202 C Street, 11th Floor, San Diego, CA 92101 | Storm Water Division, 9370 Chesapeake Drive, Suite 100, MS 1900, San Diego, CA 92123 | https://msc.fema.gov/portal/advanceSearch | Sep. 6, 2018 | 060295
San Diego | Unincorporated Areas of San Diego County (17-09-2820P) | The Honorable Kristin Gasper, Chair, Board of Supervisor, San Diego County, 1600 Pacific Highway, Room 335, San Diego, CA 92101 | San Diego County Department of Public Works, 5510 Overland Avenue, Suite 410, San Diego, CA 92123 | https://msc.fema.gov/portal/advanceSearch | Sep. 5, 2018 | 060284
Illinois:
Cook | City of Des Plaines (18-05-1146P) | The Honorable Matthew J. Bogusz, Mayor, City of Des Plaines, 1420 Miner Street, Des Plaines, IL 60016 | Civic Center, 1420 Miner Street, 5th Floor, Des Plaines, IL 60016 | https://msc.fema.gov/portal/advanceSearch | Aug. 24, 2018 | 170081
Will | City of Naperville (18-05-2871P) | The Honorable Steve Chirico, Mayor, City of Naperville, 400 South Eagle Street, Naperville, IL 60540 | City Hall, 400 South Eagle Street, Naperville, IL 60540 | https://msc.fema.gov/portal/advanceSearch | Aug. 30, 2018 | 170213
Indiana:
Elkhart | City of Goshen (17-05-7171P) | The Honorable Jeremy P. Stutsman, Mayor, City of Goshen, Goshen City Hall, 202 South 5th Street, Goshen, IN 46528 | City Hall, 204 East Jefferson, Suite 4, Goshen, IN 46528 | https://msc.fema.gov/portal/advanceSearch | Sep. 7, 2018 | 180058
Elkhart | Unincorporated Areas of Elkhart County (17-05-7171P) | The Honorable Mike Yoder, President, Elkhart County Board of Commissioners, Elkhart County Office Building, 117 North 2nd Street, Goshen, IN 46526 | Elkhart County Public Services, 4230 Elkhart Road, Elkhart, IN 46526 | https://msc.fema.gov/portal/advanceSearch | Sep. 7, 2018 | 180056
Kansas: Sedgwick | City of Wichita (17-07-1225P) | The Honorable Jeff Longwell, Mayor, City of Wichita, City Hall, 455 North Main Street, 1st Floor, Wichita, KS 67202 | Office of Storm Water Management, 455 North Main Street, 8th Floor, Wichita, KS 67202 | https://msc.fema.gov/portal/advanceSearch | Aug. 30, 2018 | 200328
Minnesota:
Hennepin | City of Independence (17-05-0617P) | The Honorable Marvin Johnson, Mayor, City of Independence, City Hall, 1920 County Road 90, Independence, MN 55359 | City Hall, 1920 County Road 90, Independence, MN 55359 | https://msc.fema.gov/portal/advanceSearch | Aug. 27, 2018 | 270167
Hennepin | City of Minnetrista (17-05-0617P) | The Honorable Lisa Whalen, Mayor, City of Minnetrista, 7701 County Road 110 West, Minnetrista, MN 55364 | City Hall, 7701 County Road 110 West, Minnetrista, MN 55364 | https://msc.fema.gov/portal/advanceSearch | Aug. 27, 2018 | 270175
Ohio: Lake | City of Mentor (18-05-1123P) | The Honorable John A. Krueger, President of Council, City of Mentor, Mentor Municipal Center, 8500 Civic Center Boulevard, Mentor, OH 44060 | Municipal Center, 8500 Civic Center Boulevard, Mentor, OH 44060 | https://msc.fema.gov/portal/advanceSearch | Sep. 7, 2018 | 390317

[FR Doc. 2018-12741 Filed 6-13-18; 8:45 am]

BILLING CODE 9110-12-P